DEPARTMENT OF HOMELAND SECURITY

U.S. Citizenship and Immigration Services

Agency Information Collection Activities: Form I-601, Revision of a Currently Approved Information Collection; Correction

ACTION: 30-Day Notice of Information Collection Under Review: Form I-601, Application for Waiver of Grounds of Inadmissibility; Correction.

On June 7, 2012 the Department of Homeland Security, U.S. Citizenship and Immigration Services (USCIS) published a 30-day information collection notice in the Federal Register at 77 FR 33759, allowing for an additional 30-day public comment period in connection with an information collection request it will be submitting to the Office of Management and Budget (OMB) for review and clearance in accordance with the Paperwork Reduction Act of 1995.

In the 30-day information collection notice, USCIS inadvertently indicated that it did not receive comments in connection with the 60-day information collection notice it had previously published in the Federal Register on February 28, 2012, at 77 FR 12071, allowing for a 60-day public comment period.

USCIS is now correcting that notice to read that “USCIS received one comment in connection with that publication.” This correction does not change the July 9, 2012, commenting period closing date.

Dated: June 8, 2012.
Laura Dawkins,
Acting Chief Regulatory Coordinator, Regulatory Coordination Division, Office of Policy and Strategy, U.S. Citizenship and Immigration Services, Department of Homeland Security.

[FR Doc. 2012-14470 Filed 6-12-12; 8:45 am]

BILLING CODE 9111-97-P